DEPARTMENT OF HEALTH AND HUMAN SERVICES

Health Resources and Services Administration

Advisory Commission on Childhood Vaccines Meeting

AGENCY: Health Resources and Services Administration (HRSA), Department of Health and Human Services (HHS).

ACTION: Notice.

SUMMARY: The Advisory Commission on Childhood Vaccines (ACCV) provides advice and recommendations to the Secretary of HHS (Secretary) on policy, program development, and other issues related to the implementation of the National Vaccine Injury Compensation Program (VICP) and concerning other matters as described under the Public Health Service Act. To ensure compliance with the statutory requirement that the ACCV meet not less than four times per year, this notice announces that the ACCV meeting originally scheduled for March 3, 2022, has been rescheduled for December 2, 2022.

DATES: The ACCV meeting will be held on December 2, 2022, from 1:00 p.m.-4:00 p.m. Eastern Time.

ADDRESSES: This meeting will be held by Zoom webinar.

• Webinar link: https://hrsa-gov.zoomgov.com/j/1603695024?pwd=ZG4rUWw0NUlTN2d0OWRZWVJjVmNIZz09.

• Conference call-in number: 833 568 8864, Meeting ID: 160 369 5024, Passcode: 72471327.

FOR FURTHER INFORMATION CONTACT: Pita Gomez, Principal Staff Liaison, ACCV, 5600 Fishers Lane, Rockville, Maryland 20857, telephone: (301) 945-9386 or email: ACCV@HRSA.gov.

SUPPLEMENTARY INFORMATION: All 2022 ACCV meetings were originally announced in the Federal Register, Vol. 87, No. 20 on Monday, January 31, 2022, (FR Doc. 2022-01848 Filed 1-28-22), and the notice canceling the March 3, 2022, meeting was published on February 28, 2022 (FR Doc. 2022-04127 Filed 2-25-22).

Since priorities dictate ACCV meeting times, be advised that start times, end times, and agenda items are subject to change. Agenda items may include but are not limited to, updates from the Division of Injury Compensation Programs (HRSA), Torts Branch (Department of Justice), Office of Infectious Disease and HIV/AIDS Policy (HHS), Immunization Safety Office (Centers for Disease Control and Prevention), National Institute of Allergy and Infectious Diseases (National Institutes of Health) and Center for Biologics, Evaluation and Research (Food and Drug Administration). Refer to the ACCV website at https://www.hrsa.gov/advisory-committees/vaccines/index.html for all current and updated information concerning the ACCV meeting, including draft agendas and meeting materials that will be posted 5 calendar days before the meeting.

The ACCV meeting will be public, and members of the public will have the opportunity to provide comments. Public participants may submit written statements in advance of the scheduled meeting. Oral comments will be honored in the order they are requested and may be limited as time allows. Requests to submit a written statement or make oral comments to the ACCV should be sent to Pita Gomez using the contact information above at least 5 business days before the meeting date.

Individuals who need special assistance or another reasonable accommodation should notify Pita Gomez using the contact information listed above at least 10 business days before the meeting they wish to attend.

Maria G. Button,
Director, Executive Secretariat.

[FR Doc. 2022-22486 Filed 10-14-22; 8:45 am]

BILLING CODE 4165-15-P